DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Representative and Address Provisions.

Form Number(s): PTO/SB/80/81/82/83/84/122/123/124A/124B/125A/125B.

Agency Approval Number: 0651-0035.

Type of Request: Revision of a currently approved collection.

Burden: 23,668 hours annually.

Number of Respondents: 370,766 responses per year.

Avg. Hours Per Response: The USPTO estimates that it will take the public approximately 3 to 12 minutes (0.05 to 0.2 hours) to gather the necessary information, prepare the form, and submit a completed request involving a power of attorney, correspondence address, or Customer Number. The USPTO estimates that it will take the public approximately 1 hour to prepare and submit a petition related to power of attorney and 1 hour and 30 minutes (1.5 hours) to submit a Customer Number Upload Spreadsheet, including the time to prepare the spreadsheet file on diskette or CD and to produce a signed cover letter.

Needs and Uses: Under 35 U.S.C. 2 and 37 CFR 1.31-1.36 and 1.363, this information collection is used by the public to grant or revoke power of attorney in a patent application, to withdraw as attorney or agent of record, to authorize a practitioner to act in a representative capacity, to designate or change the correspondence address or fee address for one or more applications or patents, to request a Customer Number, and to designate or change the correspondence address, fee address, or list of practitioners associated with a Customer Number. The Customer Number practice permits authorized individuals to change the correspondence address, fee address, or representatives of record for a number of patents or applications with one change request instead of filing separate requests for each patent or application. The USPTO uses the information in this collection to determine who is authorized to take action in an application or patent on behalf of the applicant or assignee and where to send correspondence regarding an application or patent. This information collection currently contains eight paper forms, and customers may also submit information using the Customer Number Upload Spreadsheet format. The USPTO is adding the Authorization to Act in a Representative Capacity (PTO/SB/84), two petitions, and electronic power of attorney submissions to this collection.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0035 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before October 3, 2005 to David Rostker, OMB Desk Officer, Room 10202, New Executive Office Building, 725 17th Street NW., Washington, DC 20503.

Dated: August 26, 2005.
Susan K. Brown,
Records Officer, USPTO, Office of the Chief Information Officer, Office of Data Architecture and Services, Data Administration Division.

[FR Doc. 05-17408 Filed 8-31-05; 8:45 am]

BILLING CODE 3510-16-P